DEPARTMENT OF JUSTICE

Notice Lodging of Proposed Material Modification to Consent Decree Under the Clean Air Act

On March 24, 2024, the Department of Justice lodged a proposed material modification to a Consent Decree (“Decree”) with the United States District Court for the Western District of Washington in the lawsuit entitled United States v. Trident Seafoods Corp., et. al, Civil Action 2:19-cv-231. See Dkt. No. 8.

The Consent Decree—entered by the court in May 2019—resolved alleged violations of Title X of the Clean Air Act stemming from Trident's use of ozone-depleting refrigerants on board fishing vessels and at seafood processing facilities in Alaska and in the Pacific Northwest. The Decree includes requirements that Trident retrofit or retire a number of its larger refrigeration appliances in accordance with a ten-year schedule. The proposed material modification extends certain deadlines in that schedule by up to two years and requires that Trident retrofit or retire the appliances on an additional vessel by January 31, 2032.

The publication of this notice opens a period for public comment on the proposed material modification. Comments should be addressed to the Assistant Attorney General, Environment and Natural Resources Division, and should refer to United States v. Trident Seafoods Corp., et al., D.J. Ref. No. 90-5-2-1-11183. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

Any comments submitted in writing may be filed by the United States in whole or in part on the public court docket without notice to the commenter.

During the public comment period, the proposed material modification, along with the previously entered Consent Decree, may be examined and downloaded at this Justice Department website: https://www.justice.gov/enrd/consent-decrees. If you require assistance accessing the proposed material modification, you may request assistance by email or by mail to the addresses provided above for submitting comments.

Kathryn C. Macdonald,
Assistant Section Chief, Environmental Enforcement Section, Environment and Natural Resources Division.

[FR Doc. 2024-05827 Filed 3-19-24; 8:45 am]

BILLING CODE 4410-15-P